DEPARTMENT OF JUSTICE

Notice of Lodging of Consent Decree Under the Clean Air Act; the Clean Water Act; the Resource Conservation and Recovery Act; the Emergency Planning and Community Right-To-Know Act; and the Comprehensive Environmental Response, Compensation, and Liability Act

Notice is hereby given that on October 8, 2010, a proposed Consent Decree in United States and State of Missouri v. The Doe Run Resources Corporation, et al., Civil Action 4:10-cv-1895 was lodged with the United States District Court for the Eastern District of Missouri.

In this action the United States and the State of Missouri sought civil penalties and injunctive relief for environmental violations of the Clean Air Act, 42 U.S.C. 7401-7671q; the Missouri Air Conservation Law, Chapter 643, RSMo; the Resource Conservation and Recovery Act, 42 U.S.C. 6901-6992k; the Missouri Hazardous Waste Management Law, §§ 260.350-260.434, RSMo; the Clean Water Act, 33 U.S.C. 1251-1387; the Missouri Clean Water Law, Chapter 644, RSMo; the Emergency Planning and Community Right-to-Know Act, 42 U.S.C. 11001-11050; and the Comprehensive Environmental Response, Compensation, and Liability Act, 42 U.S.C. 9601-9603 at several of the mining, milling, and smelting facilities located in Missouri owned and operated by The Doe Run Resources Corporation, The Doe Run Resources Corporation d/b/a “The Doe Run Company”, and The Buick Resource Recycling Facility, LLC (“Defendants”). To resolve the United States' and State's claims the Defendants will pay a civil penalty of $7 million. The penalty will be paid in a $3.5 million payment to the United States and a $1.5 million payment to the state of Missouri, with an additional $1 million plus interest to be paid to the state each year for the next two years. The settlement also requires Doe Run to establish financial assurance trust funds for the cleanup of the following active or former mining and milling facilities: Brushy Creek, Buick, Fletcher, Sweetwater, Viburnum, and West Fork. Doe Run will also take steps to address RCRA violations at certain facilities; finalize and come into compliance with more stringent Clean Water Act permits at 10 of its facilities, including Herculaneum, Glover, Brushy Creek, Buick Mill, Fletcher, Sweetwater, Viburnum, West Fork, Mine #35 (Casteel), and Buick Resource Recycling; and will spend an estimated $5.8 million on stream mitigation activities along 8.5 miles of Bee Fork Creek, an impaired waterway near Doe Run's Fletcher mine and mill facility. At four facilities, Buick Mine, Brushy Creek, Fletcher, and Sweetwater, Doe Run will also enclose the lead concentrate handling, loading, and storage areas under negative pressure with emissions routed to a baghouse. The company will also spend $2 million on community mitigation projects over the next four years.

In addition, instead of installing pollution control technologies needed to reduce sulfur dioxide and lead emissions as required by the Clean Air Act, Doe Run has made a business decision to shut down its lead smelter in Herculaneum, Mo., by Dec. 31, 2013. The company will also provide an initial $8.14 million in financial assurance to guarantee cleanup work at the Herculaneum facility.

The Department of Justice will receive for a period of 30 days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States, et al. v. The Doe Run Resources Corporation, et al., D.J. Ref. 90-5-2-1-07390/1. Commenters may request an opportunity for a public meeting in the affected area, in accordance with Section 7003(d) of the Resource Conservation and Recovery Act, 42 U.S.C. 6973.

The Consent Decree may be examined at the Office of the United States Attorney, Eastern District of Missouri, Thomas F. Eagleton U.S. Courthouse, 111 South 10th Street, Room 20.333, St. Louis, MO 63102 Tel.: (314) 539-2200 and at EPA Region 7, 901 N. 5th Street, Kansas City, KS 66101, Tel: 1-800-223-0425.

During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check to cover the 25 cents per page reproduction costs in the amount of $43.50 (for Decree without appendices) or $113.25 (for Decree with appendices) payable to the U.S. Treasury or, if by e-mail or fax, forward a check in that amount to the Consent Decree Library at the stated address.

Maureen Katz,
Assistant Chief, Environmental Enforcement Section, Environment and Natural Resources Division.

[FR Doc. 2010-25930 Filed 10-14-10; 8:45 am]

BILLING CODE 4410-15-P